NATIONAL AERONAUTICS AND SPACE ADMINISTRATION (NASA)

[Notice (16-091)]

National Environmental Policy Act: Kennedy Space Center—Center Master Plan

AGENCY: National Aeronautics and Space Administration

ACTION: Notice of Availability (NOA)

SUMMARY: NASA has prepared and issued a Final Programmatic Environmental Impact Statement (FPEIS) for implementation of the Kennedy Space Center (KSC) Center Master Plan (CMP). The purpose of the CMP is to provide overall management guidance for KSC from 2016 to 2032. Implementation of the CMP will facilitate a two-decade transformation from a single, government-user launch complex to a multi-user spaceport. This multi-user spaceport will be developed in concert with NASA's programmatic missions and requirements to explore destinations outside of low Earth orbit. The need for the action is to update KSC's CMP in a manner that supports achievement of NASA's programmatic mission objectives, at the same time as maximizing the provision of excess capabilities and assets in support of non-NASA access to space.

DATES: NASA will issue a Record of Decision (ROD) for the FPEIS on the proposed KSC CMP either by December 19, 2016, or after 30 days from the date of publication of the NOA for the PFEIS in the Federal Register by the U.S. Environmental Protection Agency (EPA), whichever is later.

ADDRESSES: The FPEIS may be reviewed at the NASA Headquarters Library (Washington, DC), as well as public libraries in Florida including New Smyrna Beach, Cocoa Beach, Merritt Island, Port St. John, Cape Canaveral and Titusville. Limited hard copies of the PFEIS are available and may be requested by contacting Mr. Donald Dankert at the address, telephone number, or electronic mail address indicated below. The PFEIS is available electronically to download and read at http://environmental.ksc.nasa.gov/projects/peis.htm. NASA's ROD will also be placed on this Web site when it is issued. Anyone who desires a hard copy of NASA's ROD when it is issued should contact Mr. Dankert.

FOR FURTHER INFORMATION CONTACT: Mr. Donald Dankert, Environmental Management Branch, NASA Kennedy Space Center, Mail Code: TA-A4C, Kennedy Space Center, FL 32899, Email: Donald.J.Dankert@nasa.gov, Telephone: (321) 861-1196.

SUPPLEMENTARY INFORMATION: Pursuant to the National Environmental Policy Act (NEPA) of 1969, as Amended (42 U.S.C. 4321 et seq.), the Council on Environmental Quality (CEQ) Regulations for Implementing the Procedural Provisions of NEPA (40 CFR parts 1500-1508), and NASA NEPA regulations (14 CFR part 1216 subpart 1216.3), NASA has prepared and issued a PFEIS for implementation of the CMP.

Overall, KSC is transitioning to a re-focused mission that redefines its relationship with industry and leverages the potential of partnerships. Amid the challenges of an aging and unsustainable asset base, as well as a highly constrained federal budget, NASA must adopt and implement strategies that preserve the institutional infrastructure needed to support its purpose and programs.

This FPEIS is a programmatic document. In keeping with guidance from CEQ, the FPEIS outlines and broadly describes actions associated with KSC's proposed programs in the limited detail with which they are known at present. Three programmatic alternatives are described—No Action, Proposed Action, and Alternative 1—and their potential environmental effects are assessed in fairly general terms. At such time as a given specific project of detailed dimensions and scale is proposed at a specific location, and is in the process of being reviewed and approved, the FPEIS can serve as a master NEPA document to which future NEPA compliance documents may be “tiered”. That is, having already been addressed at a programmatic level, the action or project can incorporate discussion from the broader FPEIS by reference and focus on the issues specific to the subsequent tiered proposal. Ideally, this will serve to expedite the environmental review process and facilitate project approval, funding, and implementation. The FPEIS provides an overview of the affected environment at and near the Kennedy Space Center and the potential environmental consequences associated with the Proposed Action and alternatives. There would be a number of direct and indirect adverse impacts but none that are considered to be significantly adverse. Beneficial impacts would also occur. Under each of the three alternatives evaluated, NASA would continue to work closely with its partners, including the U.S. Fish and Wildlife Service, National Park Service, Federal Aviation Administration, Space Florida, Cape Canaveral Air Force Station, U.S. Army Corps of Engineers, and state agencies.

Of the three alternatives considered in the FPEIS, NASA prefers Alternative 1. This alternative would allow for implementation of the CMP while at the same time protecting natural resources and the environment to a greater extent than the Proposed Action.

As a result of comments received during internal and external (public) scoping, NASA developed three alternatives that are assessed in this FPEIS. Under the first of these, the Proposed Action, KSC would transition to a multi-user spaceport. A number of new land uses are proposed, including two seaports and horizontal and vertical launch and landing facilities. There would be changes in the acreage of existing designated land use categories at KSC. Alternative 1 was crafted as a direct response to concerns expressed in comments received during the PEIS public scoping period in June 2014, as well as other observations and data acquired from stakeholders and other agencies during the scoping process. Alternative 1 is similar to the Proposed Action in many regards, but is differentiated in several key respects, primarily, differences in the siting and size of vertical and horizontal launch and landing facilities. Also, the two new seaports would not be constructed.

In the No Action Alternative, KSC management would continue its emphasis on dedicated NASA Programs and would not transition in the coming years towards a multi-user spaceport. Rather, each NASA Program would continue to be operated as an independent entity to a significant degree, to be funded separately, and to manage activities and buildings in support of its own program. There would continue to be a limited non-NASA presence at KSC. Under the three PEIS alternatives, there would be differences in the sizes of the areas of designated land uses at KSC. These varying acreages are a function of the different emphases, priorities, and projects of the three PEIS alternatives. Only in the recreation and water categories are the acreages identical in all three alternatives.

The PFEIS assesses potential environmental impacts for all three alternatives under the topics of soils and geology, water resources, hazardous materials and waste, air quality, climate change, noise, biological resources, cultural resources, land use, transportation, utilities, socioeconomics, recreation, environmental justice, and protection of children.

Cheryl E. Parker,
Federal Register Liaison Officer, Mission Support Directorate.

[FR Doc. 2016-30907 Filed 12-22-16; 8:45 am]

BILLING CODE 7510-13-P